DEPARTMENT OF HEALTH AND HUMAN SERVICES

Administration for Children and Families

Public Comment on the Proposed Adoption of ANA Program Policies and Procedures

AGENCY: Administration for Native Americans (ANA), Administration for Children and Families, HHS.

ACTION: Notice of Public Comment on the Proposed Adoption of ANA Program Policies and Procedures.

SUMMARY: Pursuant to section 814 of the Native American Programs Act of 1974, as amended by 42 U.S.C. 2991b-1, the Administration for Native Americans (ANA) herein describes its proposed interpretive rules, general statements of policy and rules of agency procedure or practice in relation to the Social and Economic Development Strategies (hereinafter referred to as SEDS), Native Language Preservation and Maintenance (hereinafter referred to as Native Language), Environmental Regulatory Enhancement (hereinafter referred to as Environmental) programs, Environmental Mitigation (hereinafter referred to as Mitigation), and Native American Healthy Marriage Initiative (hereinafter referred to as NAHMI). Under the stature, ANA is required to provide members of the public an opportunity to comment on proposed changes in interpretive rules, general statements of policy, and rules of agency procedure or practice and to give notice of the final adoption of such changes at least 30 days before the changes become effective. This notice also provides additional information about ANA's plan for administering the programs.

DATES: The deadline for receipt of comments is 30 days from the date of publication in the Federal Register.

ADDRESSES: Comments in response to this notice should be addressed to Sheila K. Cooper, Director of Programs Operations, Administration for Native Americans, 370 L'Enfant Promenade, SW., Mail Stop: Aerospace 2-West, Washington, DC 20447. Delays may occur in mail delivery to Federal offices; therefore, a copy of comments should be faxed to (202) 690-7441. Comments will be available for inspection by members of the public at Administration for Native Americans, Aerospace Center, 901 D Street, SW., Washington, DC 20447.

FOR FURTHER INFORMATION CONTACT: Sheila K. Cooper at (877) 922-9262.

SUPPLEMENTARY INFORMATION: Section 814 of the Native American Programs Act of 1974, as amended, requires ANA to provide notice of its proposed interpretive rules, general statements of policy and rules of agency organization, procedure or practice. The proposed clarifications, modifications, and new text will appear in the five ANA FY 2008 Program Announcements (PA): SEDS, Native Language, Environmental, NAHMI and Mitigation. This notice serves to fulfill this requirement.

Introduction. This Notice of Public Comment (NOPC) addresses two groups of changes:

• Changes made across all program areas (Part I of NOPC). These are changes to text that is found in each PA program area. Therefore, the changes cited in Part I apply to all PAs.

• Changes made to specific program areas (Part II of NOPC). ANA has made significant changes to the Native Language, NAHMI, SEDS and Mitigation programs. These changes are outlined in Part II.

1. All program announcements will be revised to clarify program and application submission requirements for the public. These changes appear in the following sections: Definitions (Part A of NOPC), Funding Restrictions (Part B of NOPC), and Evaluation Criteria (Part C of NOPC). In addition, language and formatting changes have been made to various program area PAs in order to standardize the PAs across all program areas. These document formatting changes do not appear in this NOPC because the changes do not significantly affect or change the intent or meaning of the program information. Finally, funding restriction information will be applicable to all program areas and all PAs.

(A) ANA Administrative Policies: As required by Department of Health and Human Services (HHS) appropriations acts, all HHS recipients must credit HHS/ACF on materials developed using ANA funds. Therefore, the following bullet has been modified to meet this agency requirement to credit HHS/ACF.

The FY 2008 PA revised administrative policy will be:

All funded applications will be reviewed to ensure that the applicant has provided a positive statement to give credit to HHS/ACF on all materials developed using HHS/ACF funds.

(B) ANA Definitions: ANA has added six new definitions and clarified the definition of eight words. These new and revised definitions are provided for areas that applicants have historically found difficult to understand, have previously prompted numerous questions and have created application and project development inconsistencies. In addition, the revisions reflect changes in the evaluation criteria for FY 2008 PA. (Legal authority: Section 803(a) and (d) and 803C of the Native American Programs Act of 1974, as amended, 42 U.S.C. 2991b and 2991b-3.)

i. New Definitions: The FY 2008 PA includes definitions for the following terms: impact, impact evaluation, project goal, project period, results and benefits, and statement of need.

The FY 2008 PAs will include these new definitions:

Impact: The change in the physical, economic, social, financial, governmental, institutional, behavioral, language or cultural conditions in a community as a result of the ANA-funded project.

Impact Evaluation: Site visits conducted by ANA to provide grantees the opportunity to share, through qualitative and quantitative information, how the project goal and objectives were accomplished and how the identified community was impacted by the ANA-funded project.

Project Goal: The specific result or purpose expected from the project. The project goal specifies what will be accomplished over the entire project period. The project goal relates to the community goal and is achieved through the project objectives and activities. The project goal should directly relate to the statement of need.

Project Period: The total time for which the recipients' project or program is approved for support, including any extension, subject to the availability of funds, satisfactory progress and a determination by HHS that continued funding is in the best interest of the Government.

Results and Benefits: Measurement descriptions used to track the progress of accomplishing an individual objective. The results and benefits must directly relate to the objective and the activities outlined in the Objective Work Plan (OWP) and include target numbers used to track the project's quarterly progress.

Statement of Need: A clear, concise and precise description of the nature, scope and severity of a problem. A statement of need typically identifies the specific physical, economic, social, financial, governmental, institutional, behavioral, language or cultural challenges of the community. The statement of need is the problem that the proposed project will address.

ii. Revised Definitions: The FY 2008 PA clarifies definitions for the following terms: budget period, completed project, impact indicators, in-kind contributions, letter of commitment, leveraged resources, objective and OWP.

The FY 2008 PA revised definitions will be:

Budget Period: The interval of time into which a project period is divided for budgetary and funding purposes, and for which a grant is made. A budget period usually lasts one year in a multi-year project period.

Completed Project: A project funded by ANA is finished, self-sustaining or funded by other than ANA funds and the results and outcomes of the funded project goal are achieved by the end of the project period.

Impact Indicators: Measurement descriptions used to verifY the impact or the achievement of the project goal. Indicators must be quantifiable and documented. Impact indicators include target numbers and tracking systems. ANA requires three impact indicators per project. Impact indicators are separate from the results and benefits section of the Objective Work Plan (OWP).

In-kind Contributions: In-kind contributions are the value of goods and/or services that benefit a Federally assisted project. In-kind contributions are provided without charge to a recipient (or sub-recipient or cost-type contractor under a grant). Any proposed in-kind match must meet the applicable requirements found in 45 Code of Federal Regulations (CFR) Part 74 and Part 92.

Letter of Commitment: A letter documenting the commitment to provide cash or in-kind contributions to meet the applicant match requirement. The letter of commitment may be from the applicant or a third-party. The letter of commitment must state the dollar amount (if applicable), the length of time the commitment will be honored and the conditions under which the organization will support the ANA project. If a dollar amount is included, the amount must be based on market and historical rates charged and paid. The in-kind contributions to be committed may be human, natural, physical or financial, and may include other Federal and non-Federal resources.

Leveraged Resources: The non-ANA resources acquired during the project period that support the project and exceed the 20 percent applicant match required for ANA grants. Such resources may include any natural, financial and physical resources available within the Tribe, organization or community to assist in the successful completion of the project. An example would be an organization that agrees to provide a supportive action, product, service, human or financial contribution that will add to the potential success of the project.

Objective(s): Specific outcomes or results to be achieved within the proposed project period that are specified in the OWP. Completion of objectives must result in specific, measurable outcomes that would benefit the community and directly contribute to the achievement of the stated project goals. These measurable outcomes are documented in the results and benefits section of the OWP. Applicants should relate their proposed project objectives to outcomes that support the community's long-range goals. Each objective should be Specific, Measurable, Achievable, Results-oriented and Time-bound (SMART). Objectives are the foundation for the OWPs. A project cannot have more than three objectives per project period. Objectives may last more than ore budget period for multi-year projects.

Objective Work Plan (OWP): The ANA form that documents the project plan the applicant will use to achieve the objectives and produce the results and benefits expected for each objective. The OWP provides a project goal statement, objectives and detailed activities proposed for the project and how, when, where and by whom the activities will be carried out. ANA will require separate OWPs for each year of the project (the Office of Management and Budget (OMB) No. 0980-0204, expo 12/31/2009).

(C) ANA Disqualification Factors: In order to align to the new OMB format for Announcement of Federal Funding, ANA is relocating and clarifying the long standing Tribal Resolution Administrative policy statement. The Administrative Policy statement will be removed from Section I Funding Opportunity Description, ANA Administrative Policies to Section III.3 Disqualification Factors.

The FY 2008 PA new disqualification factor will be:

Applications, including Tribally authorized components and divisions, must include a Resolution (a formal decision voted on by the official governing body) approving the application. The Resolution must be current, signed, dated and cover the entire project period. Applications that do not include a complete Resolution will be considered non-responsive and the application will not be considered for competition.

(D) ANA Funding Restrictions: To reduce uncertainty, ANA has clarified its funding restriction policies. The first three bulleted statements identified below provide clarity on program project funding overlaps. This change ensures that ANA provides project funding to the greatest number of needy communities. The fourth bulleted statement clarifies the realignment of ANA goals across all program areas, provides clarity on funding restrictions applicable to projects submitted with critical gaps in the project plan and requires significant revisions to the OWP, project approach or the implementation strategy. The fifth bulleted statement restricts funding for projects that support Native languages that do not have living speakers. This restriction ensures that ANA's limited funds preserve and maintain currently spoken languages, especially those in danger of losing living speakers. It also promotes intergenerational communication so that speakers, generally elders, teach youth. (Legal authority: Section 803(a) and (d) and 803C of the Native American Programs Act of 1974, as amended, 42 U.S.C. 2991b and 2991b-3.)

The FY 2008 PA text will be:

• Projects that allow any one community or region to receive a disproportionate share of the funds available for award. When making decisions on grant awards ANA will assess and consider whether the community or region is already receiving funding for a SEDS, Native Language or Environmental project from ANA.

• Applicants that submit a project that is essentially identical or similar in whole or in part, to previously funded projects.

• Projects that are essentially identical or similar in whole or in part to previously funded projects in the same community.

• Projects that do not further the three inter-related ANA goals of economic development, social development and cultural preservation or are unlikely to be successful based on the proposed project approach and implementation strategy.

• Projects that seek to revive Native languages that do not have any living speakers.

(E) ANA Application Evaluation Criteria: In order to clarify for the applicant the necessity to provide appropriate information under each evaluation criteria, ANA has further defined application titles, reconfigured the assigned criteria weight and clarified the text within each criterion to avoid duplication of information requested.

i. Titles and Assigned Weight: In the FY 2008 PA ANA will adjust the weighted scores for all criteria in all program areas. The weighted score adjustments are made to indicate the value of the evaluation criteria and the criterion titles are changed to add clarity to the focus of the criterion section. (Legal authority: Section 803(a) and (d) and 803C of the Native American Programs Act of 1974, as amended, 42 U.S.C. 2991b and 2991b-3.)

For the FY 2008 ANA Program Announcement, the criteria weighted scores will be:

Criterion One—Project Summary (3 pts.);

Criterion Two—Need for Assistance (18 pts.);

Criterion Three—Project Approach (40 pts.);

Criterion Four—Organizational Capacity (17 pts.);

Criterion Five—Project Impact/Evaluation (7 pts.);

Criterion Six—Budget and Budget Justification/Cost Effectiveness (15 pts.).

ii. ANA Evaluation Criteria.

a. Criterion One—Project Summary: The request for an introductory summary narrative text will be removed from the FY 08 PA because the same information is also requested for the ANA Project Abstract form. This change reduces redundancy in the application process. (Legal authority: Section 803(a) and (d) and 803C of the Native American Programs Act of 1974, as amended, 42 U.S.C. 2991b and 2991b-3.)

The new FY 2008 PA text for Criterion One will be:

Project Summary: This criterion will be evaluated to the extent the ANA Project Abstract form is present and properly completed. The Project Abstract provides crucial project information in a concise format and is used by the independent review panel, ANA staff and the Commissioner during all phases of the review process. The project summary section of the abstract focuses on the specific purpose of the proposal. The summary must include a brief statement of need, the project goal, project objectives and impact indicators. The Abstract must clearly indicate the Priority Area for which the applicant is submitting the application for funding consideration.

b. Criterion Two—Need for Assistance: Through project evaluations, ANA has determined that there are several factors in this criterion that are critical to project management, monitoring, and success. Therefore, in the FY 2008 PA this criterion is categorized into five subcriteria with weighted scores and includes expanded instructions to encourage applicants to more fully describe each of the critical factors. Furthermore, ANA is adding a request for a statement of need and a project goal. ANA anticipates that these inclusions will result in better defined project scopes and objectives. (Legal authority: Section 803(a) and (d) and 803C of the Native American Programs Act of 1974, as amended, 42 U.S.C. 2991b and 2991b-3.)

The new FY 2008 PA text for the Objectives and Need for Assistance criterion will be:

Need for Assistance: This criterion will be evaluated to the extent the applicant describes the community to be served by the project, identifies the community goal(s), defines the need, describes community involvement and relates the project goal to the community goal(s).

• Identification of Community (2 points): Provide appropriate background information on the community to be served, including geographic location of the project, where the project will be administered and a description of the community to be served by the project. A description of the community can include, but is not limited to, the following: (1) A description of the population segment within the community to be served or impacted; (2) the size of the community; (3) a geographic description or location, including the boundaries of the community; (4) demographic data on the target population; and (5) the relationship of the community to any larger group or Tribe.

Applicants from national and regional Native organizations must describe their organizational membership. Explain how the organization serves and impacts Native communities.

• Community Goals (2 points): Provide information on the community's long-range goals. Information can include, but is not limited to, materials such as excerpts from a community strategic plan or the mission statement of a non-profit organization.

• Statement of Need (3 points): A statement of need is a clear, concise and precise description of the nature, scope and severity of a problem. Create a statement of need that identifies the specific physical, economic, social, financial, governmental, institutional, language or cultural challenges of the applicant to be addressed by the proposed project.

• Community Involvement (6 points): Describe in detail how the community to be served was involved in the planning process and the origins of the project idea. Describe the community participation in writing the project proposal. Demonstrate and document community and/or Tribal government support for the project. Discuss the relationship of any non-ANA-funded activities supportive of the project. Documented support is a critical element of this evaluation criterion and includes, but is not limited to, materials such as letters of support, testimonials and community meeting minutes.

• Project Goal (5 points): Introduce the project goal and briefly state the project objective(s). The project goal is the specific result or purpose expected to be accomplished over the entire project period. The project goal should directly relate to the statement of need and an identified community goal.

c. Criterion Three—Project Approach: The FY 2008 PA criterion is organized into four subcriteria with respective weighted scores to identify critical factors in project implementation, management, monitoring, and leading to overall project success. The OWP instructions will be clearly separate from the project strategy. Descriptions for both contingency plans and sustainability plans will be expanded. ANA will limit the number of objectives to a maximum of three per project period. Finally, as a result of project monitoring and evaluation reviews, ANA is limiting the number of objectives for each project to three. This change will allow applicants to focus on the activities that are necessary to meet the project goal and objectives. (Legal authority: Section 803(a) and (d) and 803C of the Native American Programs Act of 1974, as amended, 42 U.S.C. 2991b and 2991b-3.)

The Criterion Three text in the FY 2008 PA will be:

Project Approach: This criterion will be evaluated to the extent the applicant includes a narrative that addresses the project strategy, the challenges and contingency plan, the sustainability plan, and the ANA OWP form.

• Project Strategy (10 points): Present a narrative on the project strategy and implementation plan for the entire project period. Be clear and concise. Provide a clear relationship between the proposed project goal and the project objectives. Discuss how the project objectives will support and assist the achievement of the project goal. Discuss how the project goal will support and assist the achievement of the community's long-range goals.

(Note: for SEDS projects only) If relevant to the project, applicants must provide a Business Plan as an attachment.

Project Challenges and Contingency Planning (5 points): Based on ANA's project funding history and information gathered from project impact evaluations, ANA has determined that all projects encounter challenges and therefore need to have a contingency plan should a significant challenge arise. Challenges can arise because applicants make assumptions about critical events, conditions and/or decisions outside of the control of project management. The applicant needs to identify challenges that may arise during the project's initial start-up and throughout the project period. Consider such challenges as difficulty hiring and retaining key staff, difficulty recruiting community members and/or volunteers for project activities, difficulty recruiting target audience (e.g., students, children, elders), difficulty securing agreed upon support from partners to provide services/funding, planning shortfalls, possible disruption of the project timeline due to Tribal elections and difficulty securing permits or licensing from government entities. Identify potential challenges and explain the contingency plan that will be implemented to overcome those challenges. The contingency plan should ensure that the project will be successfully completed within the proposed funded timeframe.

• Sustainability Plan (5 points). Establish whether the project will be completed, self-sustaining, or funded by other than ANA funds at the end of the project period. If the project is to be completed, explain why the project does not need to continue. For projects that are expected to continue after ANA funding has expired, present the vision showing how this project will be sustained. For example, explain how a self-sustaining project will generate sufficient funds to continue.

• Objective Work Plan (20 points). The ANA OWP form is the blueprint for the project. The OWP provides detailed descriptions of the project goal, the project objectives, supporting activities and the results and benefits to be expected. It provides the what, how, when, where, and by whom of the project. As such, it is a stand alone document that should provide sufficient information for an application reviewer, ANA staff or a project manager to understand the project and how it will be implemented. The OWP is the basis for reporting on the project.

A project cannot exceed three objectives per project period. Complete an ANA OWP form for each objective per budget period. Some objectives will require more than one form, especially if submitting an electronic application. In addition, some objectives may last more than one budget period. Ensure the objective is correctly stated in the OWP, the project narrative and on the ANA Abstract form.

The objective statement should contain the following basic elements: What will be accomplished during the project period and when it will be accomplished. Each objective should be Specific, Measurable, Achievable, Results-oriented and Time-bound (SMART).

For each objective, list activities that provide a road map to achieve the objective. Each activity is a step in the logical progression of the project. Include specific and significant activities (e.g., hiring staff developing first draft), ongoing activities (e.g., meetings and classes), the submission of required ANA reports and attendance at ANA post-award training. Especially useful are activities that show progress and/or results on a quarterly basis. Explain how the activities outlined in the OWP will lead to the successful achievement of the project objectives and goal.

Identify the position responsible for the completion of each activity by identifying the title(s) of the salaried project staff person(s). Identify time periods that are realistic to complete each activity. Use elapsed times from the start of the project (e.g., month 1, month 2) rather than absolute dates. September 30 is the start date for each budget period. Identify the non-salary personnel hours, including non-salaried contributors (paid or in-kind) to the project. List hours according to who is providing them (e.g., Committee person—10 hours; ABC Consultant—5 hours). Provide supporting documentation for the hours listed in this column. If applying on http://www.grants.gov, be aware that each objective is limited to eight activities on the OWP form. Furthermore, each section has a limitation on the number of characters (i.e., 180) that are allowed.

The results and benefits section of the OWP is used to track the progress of accomplishing an individual objective. The results and benefits must directly relate to the activities that support the accomplishment of an objective in the OWP. The results and benefits are used to monitor the project's quarterly progress and must include target numbers. The criteria for evaluating the results and benefits expected are of the applicant's choosing and need to be documented and verifiable.

d. Criterion Four—Organizational Capacity: The FY 2008 PA criterion will be organized into two subcriteria with weighted scores and expanded instructions to identify factors related to organizational capacity (management structure, administrative structure and financial competence) and project staffing, which are critical to project success. Additional information on the staffing pattern will ensure applicants consider the time to hire, qualifications needed and requisite staff responsibilities. ANA has determined that difficulty achieving target dates for hiring often results in the need for budget modifications and project extensions or results in the inability to meet the project's objectives and goal. (Legal authority: Section 803(a) and (d) and 803C of the Native American Programs Act of 1974, as amended, 42 U.S.C. 2991b and 2991b-3.)

The FY 2008 Criterion Four text will be:

Organizational Capacity: This criterion will be evaluated to the extent the applicant demonstrates their organizational capacity and ability to staff and implement the proposed project.

• Organizational Capacity (12 points): Provide information on the management structure of the applicant such as personnel and financial policies. Describe the administrative structure of the applicant and the systems to track the funding and progress of the project. Demonstrate the applicant's capacity and ability to administer and implement a project of the proposed scope. Include an organizational chart that indicates where the ANA project will fit in the existing administrative structure.

List all sources of Federal funding the applicant currently oversees. Include information on the funding agency, purpose of the funding and amount. Provide the most recent certified signed audit letter for the organization. If the applicant has audit exceptions, these issues should be discussed within this criterion, detailing any steps taken to overcome the exceptions.

Applicants are required to affirm that they will credit ANA and reference the ANA-funded project on any audio, video and/or printed materials developed in whole or in part with ANA funds.

A consortium applicant must identify the consortium membership and describe roles and responsibilities of each member in relation to the proposed project. One member of the consortium must be the recipient of the ANA funds. A consortium applicant must be an eligible entity as defined by this program announcement and the ANA regulations. Include documentation signed by the membership supporting the ANA application. ANA will not fund activities by a consortium of Tribes that duplicate activities for which member Tribes also receive funding from ANA. Include a copy of the consortia legal agreement or memoranda of agreement.

List all of the applicant's partners that will be providing support to the project's implementation. Include information on the current organizational relationship between the applicant and the partner. The experience and expertise of these partners must align with the activities stated in the OWP that they will be supporting. This information should state the nature, amount and conditions under which another agency, organization or individual will support a project funded by ANA.

• Project Staffing Plan (5 points): Provide staffing and position data that includes a proposed staffing pattern for the project. Describe the process and general timeframe to hire staff (such as advertising or recruiting from within the community). Explain how the current and future staff will manage the proposed project. Full project position descriptions are required to be submitted as an attachment. Brief biographies and/or resumes of identified key positions or individuals will be included as an attachment. Project positions discussed in this section must match the positions identified in the OWP and in the itemized budget.

Note: Applicants are strongly encouraged to give preference to qualified Native Americans, in accordance with applicable laws, in hiring project staff and in contracting services under an approved ANA grant. (In the last statement, ANA is clarifying the suggested hiring preference for Native Americans for ANA-funded projects (42 V.S.C. 2991b-2(c)(6)).

e. Criterion Five—Project Impact/Evaluation: The FY 2008 PA criterion text will focus on impact indicators and remove results and benefits expected. Furthermore, the number of required impact indicators is reduced from five to three and the list of possible impact indicators has been removed. ANA anticipates that these changes and the revised description of impact indicators will result in the selection and tracking of project-specific, applicant-selected impact indicators. (Legal authority: Section 803(a) and (d) and 803C of the Native American Programs Act of 1974, as amended, 42 U.S.C. 2991b and 2991b-3.)

The FY 2008 PA Criterion text will be:

Project Impact/Evaluation: This criterion will be evaluated to the extent the applicant addresses the relationship between the project goal and the impact indicators.

ANA conducts on-site community impact evaluations during the last quarter of the project period Impact evaluations provide grantees the opportunity to share, through qualitative and quantitative information, how the project goal and objectives were accomplished and how the identified community was impacted by the ANA-funded project. This information is then submitted in an annual report to Congress.

Impact Indicators (7 points): Impact indicators are measurement descriptions used to verify the achievement of the project goal and are separate and distinct from the results and benefits section of the OWP. ANA uses impact indicators to determine if a grantee has achieved the expected project goal. Impact is defined as the change in physical, economic, social, financial, governmental, institutional, behavioral, language or cultural conditions as a result of the project.

Each applicant must submit three impact indicators. Two of the three project indicators are standard and required across all ANA programs and the third is directly related to the project goal. The required, standard ANA impact indicators are (1) the number of partnerships formed and (2) the amount of leveraged resources (see Definitions). The third required impact indicator is used to track the success of the project in achieving the project goal and is developed by the applicant. Discuss how this impact indicator relates to the project goal. For each impact indicator submitted provide a system to track the indicator and a target number. Explain the rationale used to choose the target number. Impact indicators are tracked throughout the grant and are reported quarterly.

f. Criterion Six—Budget and Budget Justification/Cost Effectiveness: The FY 2008 PA criterion is organized into two subcriteria with weighted scores and expanded instructions. The purpose of assigning weighted scores for both the budget and the budget justification is to provide clarity and to emphasize the importance and need to submit itemized line-item budgets separately from budget justifications. It is ANA's experience that separate documents are essential for review and monitoring of projects. Furthermore, the budget justification and cost effectiveness components have been consolidated to emphasize the relationship between the cost justification and cost reasonableness. (Legal authority: section 803(a) and (d) and 803C of the Native American Programs Act of 1974, as amended, 42 V.S.C. 2991b and 2991 b-3.)

The FY 2008 PA Criterion text is:

Budget and Budget Justification/Cost Effectiveness: This criterion will be evaluated to the extent the applicant provides information on the Federal funds request, applicant match requirement, and reasonableness of costs. ANA requires applicants to submit an itemized budget for the costs associated with the successful accomplishment of the project objectives and goal. The budget must include estimated costs, a budget justification and information on cost effectiveness.

• Budget (5 points): Submit itemized budgets that list the Federal request and applicant match requirement. An itemized budget must be submitted for each budget period. These budgets should align with each Object Class Category listed under section B-Budget Categories of the Budget Information-Non Construction Programs on the SF-424A form. These sections are explained in section II of this program announcement.

The following is important to consider when preparing the budget: personnel costs should reflect the time needed to hire staff, if key personnel need to be hired and the hiring process is two months, then calculate the salary based on ten months, rather than twelve; include travel expenses for the chief financial officer and project director to attend a regional ANA post-award training; include local travel (e.g., mileage for local meetings) in the Other budget category, not in the Travel budget category.

• Budget Justification/Cost Effectiveness (10 points): Submit justification narratives that support and align with the Federal request and applicant match requirement. The justification should identify how the calculations for each of the line-items were developed and explain how they are important to the project. Include the necessary details to facilitate the determination of allowable costs and the relevance of these costs to the proposed project.

Demonstrate cost effectiveness of the budget by explaining why this project and associated costs are an effective use of ANA resources. Indicate how the proposed budget aligns with regional costs and why funding is necessary to resolve the statement of need Identify source or include documentation of price quotations, where possible.

Identify the source of the required applicant match and provide documentation in the form of letters of commitment (see Definitions).

Submit a copy of the current Indirect Cost Rate Agreement (see Uniform Project Description definitions) in order to charge or otherwise seek credit for indirect costs. The agreement must have all costs broken down by category so ANA reviewers can be certain that no budgeted line-items are included in the indirect cost pool. Applicants that do not submit a current Indirect Cost Rate Agreement may not be able to claim the allowable cost, may have the grant award amount reduced, or may experience a delay in the grant award.

• (Note: For SEDS projects only) For business development projects, demonstrate that the expected return on the ANA funds used to develop the project will provide a reasonable operating income and investment return within a specified time period If a profit-making venture is being proposed, profits must be reinvested in the business in order to decrease or eliminate ANA's future participation. Such revenue must be reported as general program income. A decision will be made at the time of the grant award regarding appropriate use of program income (see 45 CFR Part 74 and Part 92).

II. ANA FY 2008 Program Specific Changes. ANA FY 2008 PAs for the Native Language Program; NAHMI, SEDS, and Mitigation include changes specific to those programs. Changes are found throughout the PA and are identified below for each specific program.

(A) ANA Native Language: Changes to the Native Languages program area description, definitions, and priority area descriptions reflect the addition of Category IV: Native Language Immersion Projects to include the Esther Martinez Native American Languages Preservation Act of 2006 (Pub. L. 109-394). Each one of ANA's language categories builds on the other. Language Category IV is the logical next step in the process of cultural preservation through the implementation of language immersion programs. (Legal authority: Section 803(a) and (d) and 803C of the Native American Programs Act of 1974, as amended, 42 U.S.C. 2991b and 2991b-3 and Pub. L. 109-394.)

i. Executive Summary

The FY 2008 PA Executive Summary will be:

The Administration for Native Americans (ANA), within the Administration for Children and Families (ACF), announces the availability of Fiscal Year (FY) 2008 funds for new community-based activities under ANA's Native Language Preservation and Maintenance program area. Financial assistance is provided using a competitive process in accordance with the Native American Programs Act of 1974, and the Esther Martinez Native American Languages Preservation Act of 2006. ANA provides financial assistance to eligible applicants for the purpose of assisting Native Americans in assuring the survival and continuing vitality of their languages. Grants are provided under the following four categories: Category I—Native Language Assessment grants are used to conduct the assessment needed to identify the current status of the Native American language(s) to be addressed; Category II—Native Language Project Planning grants are used to plan a language project; Category III—Native Language Project Implementation grants are used to implement a preservation language project that will contribute to the achievement of the community's long-range language goal(s); and Category IV—Native Language Immersion Project grants are only used for immersion projects with language nests and language survival schools in accordance with Public Law 109-394.

ii. Funding Opportunity Description:

The following statements will be added in the FY 2008 PA:

(To Legislative Authority) Esther Martinez Native American Languages Preservation Act of 2006, Public Law 109-394

(To Funding Opportunity Description, after the first paragraph) In 2006, Congress passed the Esther Martinez Native American Language Preservation Act of 2006, Public Law 109-394. The law amends the Native American Programs Act of 1974 to provide for the revitalization of Native American languages through Native American language immersion programs, and for other purposes.

(To Funding Opportunity Description, 1st sentence) For Category IV projects, applicants must abide by the parameters established by Public Law 109-394.

iii. The FY 2008 PA will be amended to include the following statement prior to the Category One description:

Please note that this announcement is divided into four priority areas. The first priority area is Category I—Native Language Assessment; the second priority area is Category II—Native Language Project Planning; the third priority area is Category III—Native Language Project Implementation; and the fourth priority area is Category IV—Native Language Immersion Project. Information on each priority area immediately follows section VIII of the preceding program area. The Standard Form (SF) 424 and ANA Project Abstract form must clearly indicate the correct priority area category (I, II, III or IV). An applicant cannot apply for more than one category.

iv. ANA added definitions in order to clarify Category IV.

The FY 2008 Native Language PA includes these definitions:

Language Nests as defined by Public Law 109-394: Site-based educational programs that provide Native language instruction and child care through the use of a Native American language for at least 10 children under the age of 7 for an average of at least 500 hours per year per student, provide classes in a Native American language for parents (or legal guardians) of students enrolled in a Native American language nest (including Native American language-speaking parents) and ensure that a Native American language is the dominant medium of instruction in the Native American language nest.

Language Survival Schools as defined by Public Law 109-394: Site-based educational programs for school age students that provide an average of at least 500 hours of Native language instruction through the use of 1 or more Native American language for at least 15 students for whom a Native American language survival school is their principal place of instruction, develop instructional courses and materials for learning Native American languages and for instruction through the use of Native American languages, provide for teacher training, work toward a goal of all students achieving fluency in a Native American language and academic proficiency in mathematics, reading (or language arts) and science and are located in areas that have high numbers or percentages of Native American students.

v. The descriptions for Native Language Categories I, II and III will be revised and Category IV will be added.

a. Category I—Native Language Assessment

The FY 2008 PA Category I program area of interest will be:

A project that compiles, collects and organizes Native language data in order to have a current description of the community's language status obtained through a “formal” method (e.g., work performed by a linguist and/or a language survey conducted by community members) or an “informal method” (e.g., a community consensus of the language status based on elders, Tribal scholars, and/or other community members).

b. Category II—Native Language Project Planning

The FY 2008 PA Category II description will be:

The purpose of a Category II—Native Language Planning Project is to encourage Tribes and Native organizations to plan and design Native language projects. Applicants are encouraged to develop a project that results in a comprehensive plan to preserve the Native language that uses current community language assessment data, reviews innovative methods that bring older and younger Native Americans together to teach and learn the language, and considers all essential elements needed to sustain and implement a language project. Category II—Planning Projects are for planning and design only and do not include activities that call for direct language learning or instruction. Program areas of interest include:

• Projects to plan and design Master/Apprentice programs;

• Projects to plan and design a comprehensive Native language immersion programs for a language nest or survival school;

• Projects that plan, design, and test curriculum for students, parents and language instructors;

• Projects that plan and design teaching materials;

• Projects that plan and design multi-media language learning tools;

• Projects that plan and design a teacher certification program.

c. Category III—Native Language Project Implementation

The FY 2008 Category III description will be:

The purpose of Category III grants is to provide support to Tribes and Native organizations in the implementation of a Native language project to achieve the community's long-range language goal(s). Program areas of interest under Category III include:

• Projects to produce and disseminate culturally relevant printed stories for children, on mental and physical disabilities, using the Native language of the community;

• Projects to facilitate and encourage inter-generational teaching of Native American language skills;

• Projects to train teachers, interpreters or translators of Native languages;

• Projects to disseminate culturally relevant materials to be used to teach and enhance the use of Native American languages;

• Projects to implement an immersion, mentor or distance learning model;

• Projects to produce, distribute or participate in television, radio or other media forms to broadcast Native languages;

• Projects to compile, transcribe and perform analysis of oral testimony;

• Projects to implement an educational site-based immersion project.

d. Category IV—Native Language Immersion Projects

The FY 2008 Category IV description will be:

The purpose of Category IV grants is to fund Native American Language Immersion projects. The only program areas of interest funded under this priority area are immersion projects for language nests or for language survival schools.

The program area of interest for a Category IV language nest project as defined by statute are site-based educational programs that—

○ provide Native language instruction and child care through the use of a Native American language for at least 10 children under the age of 7 for an average of at least 500 hours per year per student, provide classes in a Native American language for parents (or legal guardians) of students enrolled in a Native American language nest (including Native American language-speaking parents) and ensure that a Native American language is the dominant medium of instruction in the Native American language nest.

The program area of interest for a Category IV language survival school as defined by statute are site-based educational programs for school-age students that—

○ provide an average of at least 500 hours of Native language instruction through the use of 1 or more Native American language for at least 15 students for whom a Native American language survival school is their principal place of instruction, develop instructional courses and materials for learning Native American languages and for instruction through the use of Native American languages, provide for teacher training, work toward a goal of all students achieving fluency in a Native American language and academic proficiency in mathematics, reading (or language arts) and science and are located in areas that have high numbers or percentages of Native American students.

vi. Evaluation Criteria. In addition to the newly developed evaluation criteria presented in Part I. C. of this NOPC, additional information requests for the Native Language program have been added. The additional information reflects the priority area-specific information that is necessary for project review and administration. (Legal authority: Section 803(a) and (d) and 803C of the Native American Programs Act of 1974, as amended, 42 U.S.C. 2991b and 2991b-3 and Public Law 109-394.)

a. Category I—Native Language Assessment

The FY 2008 PA will include the following statement in Criterion Two—Need for Assistance, Identification of Community:

Describe the known status of the Native American language(s) in the community. Indicate how many known speakers of the language(s) are in the community.

b. Category II—Native Language Planning

The FY 2008 PA will include the following in Criterion Two—Need for Assistance, Identification of Community:

Describe the current status of the Native American language to be addressed in this planning project. Current status is defined as data compiled within the previous 36 months. The description of the current status minimally includes the following information: Age, gender and number of speakers; level(s) of fluency; number of first language speakers, number of second language speakers, and level of fluency; where Native language is used, e.g., home, court system, religious ceremonies, church, media, school, governance and cultural activities; rate of language loss or gain; and the source of data (formal and/or informal).

Fully describe existing community language programs and projects, if any, in support of the Native American language to be addressed by the ANA project. If the applicant has never had a language program, include a detailed explanation of what barriers or circumstances prevented the establishment of a community language program.

c. Category III—Native Language Implementation

The FY 2008 PA will include the following in Criterion Two—Need for Assistance, Identification of Community:

Describe the current status of the Native American language to be addressed in this project. Current status is defined as data compiled within the previous 36 months. The description of the current status minimally includes the following information: Age, gender and number of speakers; level(s) of fluency; number of first language speakers, number of second language speakers, and level of fluency; where Native language is used, e.g., home, court system, religious ceremonies, church, media, school, governance and cultural activities; rate of language loss or gain; and the source of data (formal and/or informal).

Describe existing community language programs and projects, if any, in support of the Native American language to be addressed by the ANA project. If the applicant has never had a language program, include a detailed explanation of what barriers or circumstances prevented the establishment of a community language program.

The FY 2008 PA will include the following in Criterion—Three Approach, Project Strategy:

Include a brief description of how the project will determine effective language growth has occurred in the community.

Describe how the project's methodology, research data, outcomes, or other products can be shared and modified for use by other Tribes or Native communities. If this is not feasible or is culturally inappropriate, provide the reasons. The goal is to provide opportunities to ensure the survival and continuing vitality of Native languages.

Describe how the products of the project will be preserved through archival or other culturally appropriate methods, for the benefit of future generations. Native language projects that produce audio or print media will now include a stipulation that a copy of the products will be provided to ANA for the Language Repository. Federally recognized Tribes are exempt from this stipulation and may choose not to submit project products.

d. Category IV—Language Immersion Projects

The FY 2008 PA will include the following in Criterion Two—Need for Assistance, Identification of Community:

Describe the current status of the Native American language to be addressed in this project. Current status is defined as data compiled within the previous 36 months.

The FY 2008 PA will include the following in Criterion Three—Approach, Project Strategy:

Fully describe the existing Native language program(s), and include the following: (1) The program goals; (2) the number of program participants; (3) the number of speakers; (4) the age range of participants (e.g., 0-5, 6-10, 11-18); (5) the number of language teachers; (6) the criteria used to acknowledge competency of language teachers; (7) the resources available to the applicant (e.g., valid grammars, dictionaries and orthographies) or describe other suitable resources; and (8) the program achievements.

The FY 2008 PA will include the following in Criterion Four—Organizational Capacity, Organizational Capacity:

For language nest projects, the applicant shall provide information on the capacity of the organization to provide instruction and child care for at least 10 children under the age of 7 for an average of at least 500 hours per year per student. The applicant shall also provide information on the capacity of the applicant to provide classes to the parents of the students in the language nest.

For a language survival school project, the applicant shall provide information on the capacity of the organization to provide an average of at least 500 hours of instruction through the use of 1 or more Native American languages for at least 15 students. Information must include a certification by the applicant that the applicant has not less than 3 years of experience in operating and administering a Native American language survival school, a Native American language nest or any other educational program in which instruction is conducted in a Native American language. Certification should include at least 3 years of accreditation by the State or Tribe to teach the Native American language to the relevant age group.

vii. Funding Thresholds. The new FY 2008 priority area will revise the funding thresholds for each language category, which reflects ANA availability for funds in this program area. (Legal authority: Section 803(a) and (d) and 803C of the Native American Programs Act of 1974, as amended, 42 U.S.C. 2991b and 2991b-3 and Public Law 109-394.)

viii. Project Periods: The new FY 2008 Native Language categories will have specific project periods. Category I will be a 12-month project period; Category II will be a 12- or 24-month project period; Category III will be a 12-, 24-, or 36-month project; and Category IV will be 36-month-only project period. These project periods allow ANA to fund the greatest number of projects while still allowing ample time for projects in each category to be completed. (Legal authority: Section 803(a) and (d) and 803C of the Native American Programs Act of 1974, as amended, 42 U.S.C. 2991b and 2991b-3 and Public Law 109-394.)

ix. Forms, Assurances, and Certifications. The additional certification requirement was added to comply with the Esther Martinez Native American Languages Preservation Act of 2006. (Legal authority: Section 803(a) and (d) and 803C of the Native American Programs Act of 1974, as amended, 42 U.S.C. 2991b and 2991b-3 and Public Law 109-394.)

The FY 2008 PA Category IV—Language Immersion will include an additional requirement:

For applicants applying as a Category IV Native American language survival school, submit the following certification:

• A certification that the applicant has operated and administered a Native American language survival school, a Native American language nest, or any other educational program in which instruction is conducted in a Native American language for at least 3 years. Certification may include accreditation from the applicant's State and/or Tribe.

(B) ANA NAHMI: The FY 2008 PA includes two priority areas, specifically Category I—NAHMI Project Planning and Category II—NAHMI Project Implementation. The division of the NAHMI program area into two priority areas will make developing project proposals more feasible for applicants and executing projects more manageable for grantees. It also will lead to reduced project periods, thus reducing the challenges of long-term budget requirements and grant administration. ANA anticipates that these changes will increase applications under this program area. Category II includes additional program areas of interest, specifically projects that target fathers and absentee parents. These areas of interest were included because they have a direct impact on child welfare. (Legal authority: Section 803(a) and (d) and 803C of the Native American Programs Act of 1974, as amended, 42 U.S.C. 2991b and 2991b-3.)

i. Executive Summary

a. In the first paragraph the FY 2008 PA will state: * * * funds for projects that plan for and implement approaches to improve * * * and strengthening families (including absentee parent activities) in Native American communities.

b. The FY 2008 PA text, beginning with the third paragraph which focuses on NAHMI, will be:

The Native American Healthy Marriage Initiative (NAHMI) is a component of the ACF HMI (Healthy Marriage Initiative) and specifically promotes planning and implementing culturally competent strategies for fostering healthy marriages, responsible fatherhood and child well-being to strengthen families within the Native American Community.

ANA believes a focused strategy is needed to support the Native American Community because of the unique experiences of the Native American population, and there is a clear link between healthy marriage and child wellbeing. The NAHMI-focused strategy includes three components: (1) Education and Communication; (2) the Creation and Enhancement of Collaborations and Partnerships; and (3) Identifying Resources.

The goal of NAHMI is to increase the percentage of youth and young adults who have the skills and knowledge to make informed decisions about healthy relationships, including skills that can help them eventually form and sustain a healthy marriage; increase the percentage of couples who are equipped with the skills and knowledge necessary to form and sustain healthy marriages; increase the percentage of Native American children who are raised by two parents in a healthy marriage environment that is also free of domestic violence; increase the percentage of involvement by absentee parents in the lives of their children; increase public awareness in Native American communities about the value of healthy marriages and responsible fatherhood; and encourage and support research on Native American healthy marriages and healthy marriage education.

ii. Funding Opportunity Description

The FY 2008 PA will be:

This program area seeks to fund projects that engage in the planning and implementation of approaches to remove barriers to forming lasting families and healthy marriages in Native communities. The announcement is divided into two priority areas. The first priority area is Category I—Improving the Well-Being of Children/Native American Healthy Marriage Initiative Project Planning. Projects funded under Category I of this announcement will include activities that design and engage in a community-based planning process that identifies barriers to forming healthy marriages (including Traditional Native American marriages); assesses the need and interest of the community to participate in a NAHMI project; assesses existing absentee parenting programs; identifies strategies to implement a NAHMI project and develops projects that are designed to reduce or eliminate the challenges and barriers identified by the community. The second priority area is Category II—Improving the Well-Being of Children/Native American Healthy Marriage Initiative Project Implementation. Projects funded under Category II of this announcement will include activities that provide community resources such as marriage education/enrichment training; pre-marital education; relationship skills education on communication, conflict resolution, and commitment; and other support activities such as family outings, family strengthening groups, and weekend pre-marital/marital education retreats.

iii. The FY 2008 PA will be amended to include the following statement prior to the priority one description:

Please note that this announcement is divided into two priority areas. The first priority area is Category I-Improving the Well-Being of Children/Native American Healthy Marriage Initiative Project Planning and the second priority area is Category II-Improving the Well-Being of Children/Native American Healthy Marriage Initiative Project Implementation. The second priority information immediately follows section VIII of priority area one. Applicants may submit under either Priority Area I or Priority Area II but not both priority areas. The Standard Form (SF) 424 and ANA Project Abstract form must clearly indicate the correct priority area.

iv. Definitions. The definition for Domestic Violence Protocol (DVP) will be added and the definition for logic model will be removed. These changes correspond to changes in the evaluation criteria. A DVP is required to be developed in Category I and is required for Category II. (Legal authority: Section 803(a) and (d) and 803C of the Native American Programs Act of 1974, as amended, 42 U.S.C. 2991 b and 2991 b-3.)

The FY 2008 PA will include one new definition:

Domestic Violence Protocol: A protocol that describes how you will respond to domestic violence issues. Key components of a domestic violence protocol include key project partners, program description, mission of the healthy marriage project, scope and purpose of protocol, underlying principles and shared values, list of domestic violence shelters, definition of domestic violence, screening and assessment procedures, responding to disclosure of abuse procedures, confidentiality, training, and evaluation of protocol. For more information, please visit the ANA Web site at http://www.acf.hhs.gov/programs/ana/ programs/NAHMI/NAHMI_domestic_violence.html.

v. The FY 2008 PA will include two priority areas, Category I—Project Planning and Category II—Project Implementation. Communities have requested additional time to plan and develop community partners for comprehensive healthy marriage and fatherhood projects. Therefore, ANA has created two priority areas; planning and implementation, to allow communities the opportunity to apply for shorter project periods and to focus on planning activities that will ensure successful future NAHMI projects. The FY 2008 PA for Category II revises the number of required program areas of interest from three to at least one. (Legal authority: Section 803(a) and (d) and 803C of the Native American Programs Act of 1974, as amended, 42 U.S.C. 2991b and 2991b-3.)

a. The FY 2008 PA will include the following Priority Area 1 description:

Priority Area 1: Category I—Improving the Well-Being of Children/Native American Healthy Marriage Initiative Project Planning

Description

The purpose of a Category I planning project is to engage in a community-based planning process that assesses the current status of available resources and barriers to marriage and child well-being within an established Native community. Applicants are encouraged to develop a project that results in a comprehensive NAHMI plan that includes a community assessment of the challenges and barriers that negatively impact marriages, parenting, child well-being, and families within Native American communities; identifies resources and partnerships; and develops a strategy to help sustain healthy marriages and responsible fatherhood within Native American communities. Category I—Project Planning is for planning and design only. Program areas of interest include:

• Projects that develop a plan to provide youth education in high schools, youth organizations, and community centers on the value of healthy marriages and responsible fatherhood. This can include education on relationship conflict resolution, communication, and commitment, as long as it is done in the context of promoting healthy marriage. Projects should use a pre-marital education or responsible fatherhood curriculum focused on youth.

• Projects that develop a plan to offer marriage education and marriage skills, that may include communication skills, conflict resolution, commitment and parenting skills to expectant couples, both married and unmarried, absentee parents, as well as new parents, both married and unmarried.

• Projects that develop a plan to offer pre-marital education and marriage skills training for couples, individuals, or engaged couples interested in marriage. Training would include a marital educational course and couples would learn the knowledge and skills (e.g. communication, conflict resolution, commitment) necessary to choose marriage for themselves, if they so desire.

• Projects that develop a plan to offer absentee parents services that help them to overcome barriers that prevent them from consistent involvement in their children's lives. Services would include activities that provide the absentee parents opportunities to interact with their children and increase parental involvement, and also promote the value and importance of healthy marriages and families.

• Projects that develop a plan to offer education on communication and conflict resolution for absentee parents to improve the custodial and noncustodial parental relationship and increase absentee parents' involvement in their children's lives.

• Projects that develop a plan to provide marriage enhancement/enrichment and marriage skills training programs for married couples to improve or strengthen their relationship through a certified marital education course. The course should include lessons on communication, conflict resolution and commitment.

• Projects that develop a plan to use married couples as role models and mentors in at-risk communities to teach healthy relationship and marriage skills. Projects should include a marital educational course that emphasizes communication, commitment and conflict resolution; weekend retreats; and mentor groups.

• Projects that develop a plan to conduct research on the benefits of healthy marriages and healthy marriage education.

• Projects that develop a plan to provide public advertising campaigns in Native American communities on the value of healthy marriage, parental involvement, and responsible fatherhood as a way to improve marriages and strengthen family relationships.

b. The FY 2008 PA will include the following Priority Area 2 description:

Priority Area 2: Improving the Well-Being of Children/Native American Healthy Marriage Initiative—Project Implementation

Description

The purpose of a Category II—NAHMI Project Implementation is to support a community-based project focused on healthy marriage and families. Other activities such as relationship skills, responsible parenting, abstinence education, and foster parenting can be included in the project but must not be the primary objective and must be in the context of supporting healthy marriage and responsible fatherhood. The primary objective of these projects is pre-marital education or marriage education for youth, adults, and couples. Eligibility for funding is restricted to projects of the type listed in this program announcement. Applicants should choose one or more program areas of interest from the list below:

• Projects that provide youth education in high schools, youth organizations and community centers on the value of healthy marriages and responsible fatherhood. This can include education on healthy relationship skills including conflict resolution, communication, and commitment, as long as it is done in the context of promoting healthy marriage. Projects should use a pre-marital education or responsible fatherhood curriculum focused on youth.

• Projects that offer marriage education and marriage skills, that may include relationship skills, communication skills, conflict resolution, commitment and parenting skills to expectant couples, both married and unmarried, absentee parents, as well as new parents, both married and unmarried.

• Projects that offer pre-marital education and marriage skills training for couples, individuals or engaged couples interested in marriage. Training would include a marital educational course and couples would learn the knowledge and skills (e.g. communication, conflict resolution, commitment) necessary to choose marriage for themselves if they so desire.

• Projects that offer absentee parents services that help them to overcome barriers that prevent them from consistent involvement in their children's lives. Services would include activities that provide the absentee parents opportunities to interact with their children and increase parental involvement, and also promote the value and importance of healthy marriages and families.

• Projects that offer education on communication and conflict resolution for absentee parents to improve the custodial and non-custodial parental relationship and increase absentee parents' involvement in their children's lives.

• Projects that provide marriage enhancement/enrichment and marriage skills training programs for married couples to improve or strengthen their relationship through a certified marital education course. The course should include lessons on communication, conflict resolution and commitment.

• Projects that use married couples as role models and mentors in at-risk communities to teach healthy relationship and marriage skills. Projects should include a marital educational course that emphasizes communication, commitment and conflict resolution; weekend retreats; and mentor groups.

• Projects that conduct research on the benefits of healthy marriages and healthy marriage education.

• Projects that provide public advertising campaigns in Native American communities on the value of healthy marriage, parental involvement, and responsible fatherhood as a way to improve marriages and strengthen family relationships.

vi. Evaluation Criteria: In addition to the newly developed evaluation criteria 35 presented in Part 1. C. of this NOPC, the FY 2008 NAHMI will remove the request for a logic model and revise the requirement for the Domestic Violence Protocol. The request for the logic model was removed to standardize the program announcements across all program areas. (Legal authority: Section 803(a) and (d) and 803C of the Native American Programs Act of 1974, as amended, 42 U.S.C. 2991b and 2991b-3.)

a. The FY 2008 PA Priority Area One (Project Planning) will include an activity to plan and design the Domestic Violence Protocol under Criterion Three—Project Approach, Objective Work Plan. The text will read:

Include an activity to plan and design the Domestic Violence Protocol (see Definitions) the proposed project will use to identify and provide appropriate referral or services for individuals or couples where violence is occurring.

b. The FY 2008 PA Priority Area Two (Project Implementation) will include the following requirement under Criterion Three—Project Approach, Project Strategy. The text will read:

Applicants are required to discuss the Domestic Violence Protocol (see Definitions) the proposed project will use to identify and provide appropriate referral or services for individuals or couples where violence is occurring. Applicants should be able to demonstrate knowledge of the information and services provided by domestic violence coalitions within the community.

vii. Funding Thresholds. The funding thresholds for this program will be revised to reflect ANA's availability of funds within this special initiative program area. These thresholds allow ANA to provide funding to the maximum number of applicants. (Legal authority: Section 803(a) and (d) and 803C of the Native American Programs Act of 1974, as amended, 42 U.S.C. 2991 band 2991b-3.)

viii. Project Periods. The project periods reflect the review and assessment of projects monitored under this special initiative program area. These project periods allow ANA to provide funding to the maximum number of applicants. (Legal authority: Section 803(a) and (d) and 803C of the Native American Programs Act of 1974, as amended, 42 U.S.C. 2991b and 2991b-3.)

In the FY 08 PA, project periods will be:

• Priority Area 1—Planning: 12 months.

• Priority Area 2—Implementation: 36 months.

(C) ANA SEDS: In the FY 2008 PA for both priority areas, the program areas of interest (PAI) for social development projects changed. The Administration for Children and Families has expanded the focus of healthy marriage to include responsible fatherhood activities. In order to eliminate redundancy, this activity was added to the NAHMI PA. The grandparents PAI was included to promote inter-generational programs. (Legal authority: Section 803(a) and (d) and 803C of the Native American Programs Act of 1974, as amended, 42 U.S.C. 2991b and 2991b-3.)

The FY 2008 PA will replace the fatherhood PAI with the following:

• Projects that address the needs of grandparents raising grandchildren.

(D) ANA Mitigation: The FY 2008 PA removes all definitions related to in-kind contributions, including in-kind contributions, leveraged resources, partnerships, and letters of commitment. Furthermore, the required number of impact indicators is reduced to one. These changes are reflective of Public Law 103-335 which does not require matching funds. (Legal authority: Section 803(a) and (d) and 803C of the Native American Programs Act of 1974, as amended, 42 U.S.C. 2991b and 2991b-3 and Public Law 103-335.)

Dated: January 2, 2008.
Quanah Crossland Stamps,
Commissioner, Administration for Native Americans.

[FR Doc. 08-56 Filed 1-10-08 8:45 am]

BILLING CODE 4184-01-M